DEPARTMENT OF DEFENSE

Department of the Army

[Docket ID: USA-2019-HQ-0002]

Submission for OMB Review; Comment Request

AGENCY: Department of the Army, DoD.

ACTION: 30-day information collection notice.

SUMMARY: The Department of Defense has submitted to OMB for clearance the following proposal for collection of information under the provisions of the Paperwork Reduction Act.

DATES: Consideration will be given to all comments received by May 10, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: Exchange Application for Employment; Exchange Form 1200-718 and Exchange Form 1200-026; OMB Control Number 0702-0133.

Type of Request: Extension.

Number of Respondents: 99,000.

Responses per Respondent: 1.

Annual Responses: 99,000.

Average Burden per Response: 45 minutes.

Annual Burden Hours: 74,250 hours.

Needs and Uses: The information collection requirement is necessary to consider applicants for open Army & Air Force Exchange Service job opportunities. Data captured is essential in evaluating, ranking, and hiring the best, qualified individuals for enhancing the Exchange mission of providing services to United States Military Service Members.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela James.

Requests for copies of the information collection proposal should be sent to Ms. James at whs.mc-alex.esd.mbx.dd-dod-information-collections@mail.mil.

Dated: April 5, 2019.
Aaron T. Siegel,
Alternate OSD Federal Register Liaison Officer, Department of Defense.

[FR Doc. 2019-07116 Filed 4-9-19; 8:45 am]

BILLING CODE 5001-06-P